TENNESSEE VALLEY AUTHORITY

Webinar Meeting of the Regional Energy Resource Council

AGENCY: Tennessee Valley Authority (TVA).

ACTION: Notice of meeting.

SUMMARY: The TVA Regional Energy Resource Council (RERC) has scheduled a webinar meeting to discuss the impacts of the COVID 19 pandemic on the TVA energy system. The RERC was established to advise TVA on its energy resource activities and the priority to be placed among competing objectives and values. Notice of this webinar meeting is given under the Federal Advisory Committee Act (FACA).

DATES: The webinar meeting will be held on Tuesday, June 23, 2020, from 10:30 a.m. to 2:15 p.m., EDT. There will be a break in the webinar between the hours of 12:00 p.m. and 1:00 p.m. EDT.

ADDRESSES: The meeting will be conducted by webinar only. An Individual requiring special accommodation for a disability should let the contact below know at least a week in advance.

FOR FURTHER INFORMATION CONTACT: Liz Upchurch, efupchurch@tva.gov, 865-632-8305.

SUPPLEMENTARY INFORMATION:

The meeting agenda includes the following:

1. Introductions and Webinar Logistics

2. Remarks of RERC Chair

3. Remarks of RERC Designated Federal Officer

4. Overview of the impacts of COVID 19 on the TVA Energy System

5. Council Discussion

6. Public Comments

The webinar meeting is open to the public. Please register in advance at: https://bit.ly/2ZwlVoK. Oral comments from the public will be accepted during a 30-minute webinar session beginning at 1:00 p.m. EDT. In order to make oral comments, the public must pre-register by 5:00 p.m. EDT on Monday June 22, 2020 by emailing efupchurch@tva.gov. Due to time limitations, oral comments will be limited to two minutes per speaker. The public is also invited to provide written comments to the RERC at any time through links on TVA's website at www.tva.com/rerc or by emailing written comments to the Regional Energy Resource Council, care of Liz Upchurch, efupchurch@tva.gov.

Dated: May 26, 2020.
Joseph J. Hoagland,
Vice President, Innovation and Research, Tennessee Valley Authority.

[FR Doc. 2020-11890 Filed 6-1-20; 8:45 am]

BILLING CODE 8120-08-P